Title 3—

The President

Proclamation 7624 of November 8, 2002

National Employer Support of the Guard and Reserve Week, 2002

By the President of the United States of America

A Proclamation

Our National Guard and Reserve units comprise 38 percent of America's military forces, and we are grateful for the commitment of these brave men and women. During National Employer Support of the Guard and Reserve Week, we pay tribute to those serving our Nation in the National Guard and Reserve, and to the civilian employers whose continued support enables our Reserve component soldiers, sailors, airmen, marines, and coast guardsmen to defend our country with honor and distinction.

Through their service, National Guard and Reserve personnel play an important role in our efforts to advance democracy, peace, and freedom across our Nation and around the world. These dedicated men and women train vigorously and work closely with our active-duty forces, serving as equal partners in our integrated Armed Forces. As our need for their efforts expands, these citizen-soldiers will spend more time away from their families, homes, and workplaces protecting our Nation and the ideals that make us strong.

As we face new challenges and welcome new opportunities, the continued support of patriotic employers remains vital to the success of our National Guard and Reserve. Our volunteer National Guardsmen and Reservists rely on their employers for essential support and encouragement that often come at the employer's expense. These employers reflect the spirit of our Nation, and during this week I join with members of our Armed Forces and all our citizens in recognizing those who serve in our National Guard and Reserve and all who support them, and all Americans whose contributions and sacrifices help our military remain the finest fighting force in the world.

NOW, THEREFORE, I, GEORGE W. BUSH, President of the United States of America, by virtue of the authority vested in me by the Constitution and laws of the United States, do hereby proclaim November 10 through November 16, 2002, as National Employer Support of the Guard and Reserve Week. I encourage all Americans to join me in expressing our heartfelt thanks to the civilian employers of the members of our National Guard and Reserve for their extraordinary sacrifices on behalf of our Nation. I also call upon State and local officials, private organizations, businesses, and all military commanders to observe this week with appropriate ceremonies and activities.

IN WITNESS WHEREOF, I have hereunto set my hand this eighth day of November, in the year of our Lord two thousand two, and of the Independence of the United States of America the two hundred and twenty-seventh.

B

[FR Doc. 02-28995

Filed 11-12-02; 8:49 am]

Billing code 3195-01-P